DEPARTMENT OF TRANSPORTATION

Office of the Secretary

Notice of Applications for Certificates of Public Convenience and Necessity and Foreign Air Carrier Permits Filed Under Subpart B (Formerly Subpart Q) During the Week Ending September 22, 2006

The following Applications for Certificates of Public Convenience and Necessity and Foreign Air Carrier Permits were filed under Subpart B (formerly Subpart Q) of the Department of Transportation's Procedural Regulations (See 14 CFR 301.201 et. seq.). The due date for Answers, Conforming Applications, or Motions to Modify Scope are set forth below for each application. Following the Answer period DOT may process the application by expedited procedures. Such procedures may consist of the adoption of a show-cause order, a tentative order, or in appropriate cases a final order without further proceedings.

Docket Number: OST-2006-25917 and OST-2005-22228.

Date Filed: September 21, 2006.

Due Date for Answers, Conforming Applications, or Motion to Modify Scope: October 12, 2006.

Description: Application of Continental Airlines, Inc. requesting a certificate of public convenience and necessity authorizing Continental to provide scheduled air transportation of persons, property and mail between a point or points in the U.S. via intermediate points and a point or points in the open skies countries listed within the application, and beyond for an indefinite period.

Docket Number: OST-2006-25940.

Date Filed: September 22, 2006.

Due Date for Answers, Conforming Applications, or Motion to Modify Scope: October 13, 2006.

Description: Application of Kuzu Airlines Cargo requesting a foreign air carrier permit authorizing it to engage in charter foreign air transport of property and mail between Turkey, via intermediate points, and points in the United States and beyond, as well as such other charter authority permitted under the U.S.-Turkey Open Skies Agreement.

Renee V. Wright,
Program Manager, Docket Operations Federal Register Liaison.

[FR Doc. E6-16874 Filed 10-11-06; 8:45 am]

BILLING CODE 4910-9X-P